DEPARTMENT OF COMMERCE

National Oceanic and Atmospheric Administration

50 CFR Part 660

[Docket No. 061113298-7046-02; I.D. 110106A]

RIN 0648-AU91

Fisheries Off West Coast States; Highly Migratory Species Fisheries

AGENCY: National Marine Fisheries Service (NMFS), National Oceanic and Atmospheric Administration (NOAA), Commerce.

ACTION: Final rule.

SUMMARY: NMFS publishes this final rule to revise the method for renewing and replacing permits issued under the Fishery Management Plan (FMP) for U.S. West Coast Fisheries for Highly Migratory Species (HMS). Permits are required for all commercial vessels and all recreational charter vessels participating in HMS fisheries managed under the FMP. The final rule modifies the renewal process by substituting the last day of the month corresponding to the last digit of the vessel's identification number with the last day of the vessel owner's birth month as the expiration date. The rule also requires that vessel owners requiring a duplicate permit to submit a completed application form to NMFS. These regulations are needed to improve the efficiency and timeliness of the permit system. The proposed rule is adopted without change.

DATES: Effective April 11, 2007.

ADDRESSES: Requests to renew an HMS permit or to apply for a replacement permit may be submitted by any of the following methods:

• Fax: 562-980-4047, Attn. Permits Coordinator.

• Telephone: 562-980-4030.

• Mail to: Permits Coordinator, Sustainable Fisheries Division (SFD) Southwest Region, NMFS, 501 West Ocean Boulevard, Suite 4200, Long Beach, CA 90802.

• E-mail: HMSpermitrenewal.swr@noaa.gov

FOR FURTHER INFORMATION CONTACT: Mark Helvey, NMFS, Southwest Region, SFD, (562) 980-4040.

SUPPLEMENTARY INFORMATION: These regulations modify the process NMFS uses to renew and replace permits in the U. S. West Coast HMS fisheries managed under the HMS FMP. The FMP was prepared by the Pacific Fishery Management Council and was implemented through regulations at 50 CFR part 660 under authority of the Magnuson-Stevens Fishery Conservation and Management Act (Magnuson-Stevens Act), 16 U.S.C. 1801 et seq.

Background

NMFS requires a permit for all commercial vessels and all recreational charter vessels that fish for HMS in the U.S. exclusive economic zone (EEZ) off the States of California, Oregon, and Washington, or land or transship HMS shoreward of the outer boundary of the U.S. EEZ off the States of California, Oregon, and Washington. The purpose of the HMS permit is to identify vessels in the HMS fisheries so that NMFS knows those participants who need to be contacted when management information is required and who to notify when potential management actions affecting the fisheries are being considered.

The requirement for a permit was established by final rule implementing the approved portions of the FMP for HMS published on April 7, 2004 (69 FR 18444). These permits were initially issued in 2005 after publishing a Federal Register notice on February 10, 2005 (70 FR 7022), that announced approval by the Office of Management and Budget of the collection-of-information components of the permit system.

Permit Renewal

Permits are issued to the managing owner of a specific vessel for a 2-year term. The initial issuance of HMS permits began in 2005 and these permits expire in 2007. NMFS initially implemented a permit term renewal process intentionally staggered so that there will be less likelihood of an excessive number of renewals at any one time of the year. NMFS used the last day of the month designated by the last digit of the vessel identification number as determining the renewal date for expiring permits (e.g., if the vessel identification number ends in 3, the renewal date is March 31, 2 years later). Use of this criterion extends the renewal process over a 10-month term: January through October.

Because of the administrative burden of processing the high number of permits in effect, this final rule modifies the criterion by using the last day of the managing vessel owner's birth month as the expiration date. The managing vessel owner's date of birth is required in the Pacific HMS Vessel Permit Application and is already contained in the Pacific HMS Vessel Permit database. NMFS believes that staggering the renewal process over 12 months rather than 10 months will improve the efficiency of the permit renewal process. The first renewal date under this new system will be the last day of the vessel owner's birthday month in the second calender year after the permit is issued. NMFS anticipates that the system implemented by this final rule should result in delivery of permits to vessel operators in a more efficient manner. This final rule does not require any new information to be provided by the applicant. A Southwest Region Pacific HMS Vessel Permit Application form may still be obtained from the SFD (see ADDRESSES) or downloaded from the Southwest Region home page (http://swr.nmfs.noaa.gov/permits.htm) to apply for a permit under this section. A completed application is one that contains all the required information and signatures. NMFS intends to contact vessel owners with a renewal notice by mail 3 months in advance of their permit expiration date. This procedure should provide additional time for fishermen to renew their HMS permits before the start of the fishing season. NMFS will also allow HMS fishermen to renew their permits even earlier by contacting NMFS directly (see ADDRESSES).

Replacement Permits

Replacement permits are issued by NMFS to vessel owners to replace lost or mutilated permits. Vessel owners with a lost or mutilated permit primarily notify NMFS by telephone when requesting a replacement permit. NMFS has never established a formal process to provide replacement permits, but the number of requests for replacements over the past year make it clear that such a process is required. Under this regulation, vessel owners requiring a replacement permit must submit a new completed application form to NMFS by mail or fax (see ADDRESSES).

Comments and Responses

A summary of the comments on the proposed rule and responses to those comments follow. After considering these comments, NMFS is adopting the proposed rule as final without change.

Use of Birth Month

Comment 1: Several commenters objected to the use of birth month as the criterion used to establish the expiration date. They stated that the birth month of many vessel owners may coincide during months when they could be at sea.

Response: This final rule only substitutes the month used to determine the expiration of a 2-year term HMS permit from the last digit of the vessel's identification number to the birth month of the vessel owner. When NMFS originally set up the process for permit renewals in a final rule published in 2004 and implemented in April 2005, it announced that it would use the last digit of the vessel identification number of an owner's vessel to determine the month the permit would be renewed. Based on a 0 to 9 numbering system, this staggered the renewal process over a 10-month time period. This procedure was designed at a time when NMFS believed that approximately 1300 HMS permits would be issued for HMS fisheries. Since the HMS permit program originated in April 2005, NMFS has issued approximately 2,000 HMS permits. Use of the vessel owner's birth month allows NMFS to stagger the issuance of permits over a 12 month time period and thereby provide more time to complete the renewal process. However, NMFS is sensitive to the concerns raised by commenters pertaining to a permit expiring when they may be at sea. NMFS will notify each fisherman by mail 3 months in advance of the expiration of her/his HMS permit. NMFS will also allow fishermen to contact NMFS directly and request renewal of their permit prior to the expiration date (see ADDRESSES).

Standard Annual Renewal Date

Comment 2: Some commenters suggested that NMFS standardize the procedure for renewing permits and do it at one time of the year such at the end or beginning of the calender year when many fishermen are not fishing and are in port.

Response: NMFS had always intended that HMS permit renewals be staggered over an extended period to eliminate the likelihood of an extreme permit renewal accumulation at any one time of the year. NMFS decided in 2004 that a staggered process would be more efficient for the agency and more likely to result in the delivery of permits to each fisherman in a timely manner.

Comment 3: Regarding the idea of processing all permit renewals within a shorter time frame, one commenter believed that if NMFS could place two people on permit renewals full time for two weeks, that NMFS could renew up to 1600 permits within that period.

Response: In almost 2 years of processing HMS permit applications, NMFS has learned that approximately 30% percent of the applications are lacking some type of information (e.g., address, date of birth etc.). In order to complete the application, NMFS must contact the vessel owner either by phone or mail to obtain the omitted information. NMFS has learned that any followup effort on its part does extend the time required to process a permit application especially if the vessel owner is difficult to reach. NMFS had always intended that HMS permit renewals be staggered over an extended period to eliminate the likelihood of an extreme permit renewal accumulation at any one time of the year which might prevent delivery of permits to each fisherman in a timely manner.

Changing the Term of the Permit

Comment 4: One commenter suggested staggering the permit renewals on a yearly basis by providing three different terms or periods of duration for future renewals. By this method, one-third of the permits would have a term of 1-year, one-third would have a 2-year term, and the last third would have a 3-year term. Then after the first year, the 1-year group would be ready for renewal. In the second year, the 2-year group would be up for renewal and so on. By using this system, NMFS would only have to renew one third of all HMS permits each year and thereby could conduct the renewal process in a much shorter time frame.

Response: NMFS appreciates recommendations from the fishing industry for simplifying processes that affect them. However, the intent of this final rule is only to change the criterion for determining what month a vessel owner's HMS permit comes up for renewal. There is no intent to change the term of the permit. When NMFS originally promulgated proposed regulations for the HMS permit process in 2003, it was considering setting the term of the permits at 5 years. However, after reviewing the experience of other fisheries and other areas of the country, it became clear to NMFS that a permit period of 2 years or less is more effective for ensuring accurate information about patterns of fishery participation and the names and addresses of participants in the fisheries. NMFS believes now, as it did then, that a permit term of more than 2 years increases the probability that changes in vessel names and owners and interests of related businesses will not be accurately tracked compared to a 2-year or less term. A longer term would reduce NMFS' effectiveness in advising HMS participants of changes in management measures or in permit and reporting requirements.

Combining Permit Renewals

Comment 5: In addition to processing all HMS permits renewals at one time of the year, one commenter also suggested combining all permits handled by NMFS (e.g., HMS, Federal groundfish permits, etc.) into a single process. The commenter mentioned that this would simplify the permit requirements and minimize complications to fishermen to ensure that they were in compliance with all permits.

Response: NMFS makes note of this comment and recognizes it as a laudable objective but such a recommendation goes beyond the scope of this rulemaking.

Classification

This final rule revises procedures for renewing and replacing permits issued under regulations implementing the HMS FMP published at 69 FR 18444 on April 7, 2004. The Regional Administrator, NMFS Southwest Region, determined that this rule is consistent with the Magnuson-Stevens Fishery Conservation and Management Act, codified at 16 U.S.C. 1801 et seq.

This final rule has been determined to be not significant for the purposes of Executive Order (E.O.) 12866.

The Chief Counsel for Regulation of the Department of Commerce certified to the Chief Counsel for Advocacy of the Small Business Administration during the proposed rule stage (71 FR 70939) that this action would not have a significant economic impact on a substantial number of small entities. The factual basis for the certification was published in the proposed rule and is not repeated here. No comments were received regarding this certification. As a result, a regulatory flexibility analysis was not required and none was prepared.

This final rule contains a collection-of-information requirement subject to the Paperwork Reduction Act (PRA) and which has been approved by OMB under control number 0648-0204. Public reporting burden for preparing an HMS Vessel Permit Application is estimated to average 0.42 hours per vessel, including the time for reviewing instructions, searching existing data sources, gathering and maintaining the data needed, and completing and reviewing the collection-of-information. Send comments regarding these burden estimates or any other aspect of this data collection, including suggestions for reducing the burden, to NMFS (see ADDRESSES) and by e-mail to David Rostker@omb.eop.gov, or fax to (202) 395-7285.

Notwithstanding any other provision of the law, no person is required to respond to, and no person shall be subject to a penalty for failure to comply with a collection-of-information subject to the requirements of the PRA, unless that collection of information displays a currently valid OMB control number.

List of Subjects in 50 CFR Part 660

Administrative practice and procedure, Permits.

Dated: March 6, 2007.
Samuel D. Rauch III,
Deputy Assistant Administrator for Regulatory Programs, National Marine Fisheries Service.

For the reasons set out in the preamble, NMFS amends 50 CFR part 660 as follows:

PART 660—FISHERIES OFF WEST COAST STATES

1. The authority citation for part 660 continues to read as follows:

Authority: 16 U.S.C. 1801 et seq.

2. In § 660.707, paragraphs (b)(4) and (b)(5) are revised to read as follows:

§ 660.707 Permits.

(b) * * *

(4) Permits issued under this subpart will remain valid until the first date of renewal, and permits may be subsequently be renewed for 2-year terms. The first date of renewal will be the last day of the vessel owner's birth month in the second calendar year after the permit is issued (e.g., if the birth month is March and the permit is issued on October 3, 2007, the permit will remain valid through March 31, 2009).

(5) Replacement permits may be issued without charge to replace lost or mutilated permits. Replacement permits may be obtained by submitting to the SFD c/o the Regional Administrator a complete, signed vessel permit application. An application for a replacement permit is not considered a new application.

[FR Doc. E7-4429 Filed 3-9-07; 8:45 am]

BILLING CODE 3510-22-S